SECURITIES AND EXCHANGE COMMISSION

Sunshine Act Meeting

FEDERAL REGISTER CITATION OF PREVIOUS ANNOUNCEMENT: [81 FR 73459, October 25, 2016].

STATUS: Open Meeting.

PLACE: 100 F Street NE., Washington, DC.

DATE AND TIME OF PREVIOUSLY ANNOUNCED MEETING: Wednesday, October 26, 2016 10:00 a.m.

CHANGE IN THE MEETING: Time Change.

The Open Meeting scheduled for Wednesday, October 26, 2016 at 10:00 a.m., has been changed to Wednesday, October 26, 2016 at 11:00 a.m.

For further information and to ascertain what, if any, matters have been added, deleted or postponed, please contact:

The Office of the Secretary at (202) 551-5400.

Dated: October 26, 2016.
Brent J. Fields,
Secretary.

[FR Doc. 2016-26304 Filed 10-27-16; 11:15 am]

BILLING CODE 8011-01-P